CONSUMER PRODUCT SAFETY COMMISSION

16 CFR Chapter II

[Docket No. CPSC-2019-0020]

Performance Requirements for Residential Gas Furnaces and Boilers; Notice of Reopening of Comment Period

AGENCY: U.S. Consumer Product Safety Commission.

ACTION: Reopening of comment period.

SUMMARY: The Consumer Product Safety Commission (Commission or CPSC) voted to publish an advance notice of proposed rulemaking (ANPR) in the Federal Register on August 19, 2019, concerning residential gas furnaces and boilers. The ANPR invited the public to submit written comments during a comment period that would close 60 days after the date of publication of the ANPR in the Federal Register. In response to a request for an extension, the Commission is reopening the comment period.

DATES: Submit comments by January 6, 2020.

ADDRESSES: You may submit comments, identified by Docket No. CPSC-2019-0020, by any of the following methods:

Electronic Submissions: Submit electronic comments to the Federal eRulemaking Portal at: www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Division of the Secretariat, Consumer Product Safety Commission, Room 820, 4330 East West Highway, Bethesda, MD 20814; telephone (301) 504-7923.

Instructions: All submissions received must include the agency name and docket number for this notice. All comments received may be posted without change, including any personal identifiers, contact information, or other personal information provided, to: www.regulations.gov. Do not submit confidential business information, trade secret information, or other sensitive or protected information that you do not want to be available to the public. If furnished at all, such information should be submitted in accordance with the instructions for written submissions above.

Docket: For access to the docket to read background documents or comments received, go to: www.regulations.gov, and insert the docket number CPSC-2019-0020, into the “Search” box, and follow the prompts.

SUPPLEMENTARY INFORMATION:

On August 9, 2019, the Commission voted to publish an ANPR in the Federal Register, to develop a rule to address the risk of injury and death associated with CO production and leakage from residential gas furnaces and boilers. The ANPR was published on August 19, 2019, with a 60-day comment period that closed on October 18, 2019. 84 FR 42847. The Commission issued the ANPR under the authority of the Consumer Product Safety Act (CPSA). On October 14, 2019, the Air-Conditioning, Heating, & Refrigeration Institute (AHRI) requested an extension of the comment period for an additional 60 days to provide stakeholders adequate time to respond to the ANPR. AHRI states that member companies are currently developing comments to submit on the ANPR. AHRI also notes the CSA/ANSI Cross-Functional Working Group on CO Sensor Detectors report is an agenda item during the upcoming Joint Technical Committee meeting on October 29, 2019, and that AHRI members would like to understand the Joint Technical Committee's decision on the report and proposed actions before finalizing their comments.

The Commission has considered this request and is reopening the comment period for an additional 60 days until January 6, 2020.

Alberta E. Mills,
Secretary, U.S. Consumer Product Safety Commission.

[FR Doc. 2019-24284 Filed 11-6-19; 8:45 am]

BILLING CODE 6355-01-P